FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier—Ocean Transportation Intermediary

Intlmove LLC, 16980 NE. 19th Avenue, North Miami Beach, FL 33162. Officers: Eric J. Polacek, President/Member, David Etzion, Member, (Qualifying Individuals), Gloria Comins, Member.

Lars Courier, Inc. dba Lars International Freight Forwarders, 16900 North Bay Road, Apt. 1906, Sunny Isles, FL 33160. Officers: Rudy O. Vargas-Milian, Secretary, (Qualifying Individual), Andres Panesso, President/Treasurer/Director.

Non-Vessel-Operating Common Carrier and Ocean Freight Forwarder Transportation Intermediary Applicants

Intertrans Express (NY), Inc., 10 East Merrick Road, #203, Valley Stream, NY 11580. Officer: Chun aka Peter T. Tao, President/Secretary, (Qualifying Individual).

International Trade Brokers and Forwarders Co, 2261 NW. 66th Avenue, #221, Miami, FL 33122. Officer: Alvaro Munoz, President, (Qualifying Individual).

T & B Master Logistics, Inc., 4919 Indian Wood Road, Suite 399, Culver City, CA 90230. Officers: Sunnie Kim, Secretary, (Qualifying Individual), Hyeon S. Shin, President/CEO/Treasurer/CFO.

Ocean Freight Forwarder—Ocean Transportation Intermediary Applicants

Dandino, Inc. dba Relo Moving, 626 E. 62nd Street, Los Angeles, CA 90001. Officers: Carlos Gonzales, Vice President, (Qualifying Individual), Daniel Yaniv, President.

Dated: February 26, 2010.
Rachel E. Dickon,
Assistant Secretary.

[FR Doc. 2010-4419 Filed 3-2-10; 8:45 am]

BILLING CODE 6730-01-P